DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Antibodies and Immunotoxins that Target Human Glycoprotein NMB

Ira Pastan (NCI) et al.

U.S. Provisional Patent Application filed 31 Oct 2005 (HHS Reference No. E-003-2006/0-US-01).

Licensing Contact: Jesse Kindra; 301-435-5559; kindraj@mail.nih.gov.

The human transmembrane glycoprotein NMB (GPNMB) and a splice variant form are highly expressed in the cells of several forms of brain cancer when compared to normal brain cells. This invention combines Pseudomonas exotoxin (PE) attached to an Fv antibody fragment that targets cells expressing GPNMB but not GPNMB-negative or normal cells. Results show that this antibody-immunotoxin conjugate inhibits the growth of cells expressing human glycoprotein GPNMB, including glioblastoma multiform cells, anaplastic astrocytoma cells, anaplastic oligodendroglioma cells and melanoma cells.

Method of Screening for Hepatocellular Carcinoma

Xin Wei Wang (NCI) et al.

U.S. Provisional Application filed (HHS Reference No. E-333-2005/0-US-01).

Licensing Contact: David A. Lambertson; 301-435-4632; lambertsond@mail.nih.gov.

Hepatocellular Carcinoma (HCC) is a common and aggressive cancer with a high mortality rate. The high mortality rate stems from an inability to diagnose the cancer in patients, due to the lack of available biomarkers for HCC. Currently, HCC is diagnosed by measuring the levels of serum alpha-fetoprotein (AFP); however, AFP is not always present in HCC tumors, especially small tumors. As a result, there is a need for improved diagnostic tests for diagnosing HCC in subjects.

The instant technology relates to efficient methods of detecting HCC by using new biomarkers for HCC. The overexpression of Gpc3, Mdk, SerpinI1, PEG-10 and QP-C correlates with the presence of HCC, even in small tumors, and regardless of serum levels of AFP. By comparing the expression levels of at least three of these markers in subject samples with their expression levels in control samples, the presence of HCC can be diagnosed. The method can also be used to monitor the progression or regression of HCC in a subject after the initial diagnosis, or to identify compounds having anti-HCC activity by measuring the expression levels of Gpc3, Mdk, SerpinI1, PEG-10 and QP-C following the treatment of a sample with test compounds. Current claims are directed to methods for screening for HCC in a sample, methods for monitoring the progression or regression of HCC in a subject, methods for screening compounds as having anti-HCC activity, and arrays/kits comprising polynucleotide probes for detecting the level of Gpc3, Mdk, SerpinI1, PEG-10 and QP-C mRNA expression.

In addition to licensing, the technology (in conjunction with serum ELISA technologies) is available for further development through collaborative research opportunities with the inventors.

Mouse Polyclonal Antibodies to KAI1

Mary Custer et al. (NCI).

HHS Reference No. E-264-2005/0—Research Tool.

Licensing Contact: John Stansberry; 301/435-5236, stansbej@mail.nih.gov.

The invention relates to polyclonal antibodies to the mouse metastasis suppressor gene KAI1. KAI1 is down regulated in advanced stages of various human epithelial malignancies. For example, expression levels of KAI1 are inversely correlated with the metastasis potential of human prostate cancer. This antibody would be useful in the characterization of the normal function of the KAI1 protein and it would be useful in efforts to investigate KAI1 role in metastasis suppression in experimental animal models.

Dated: December 8, 2005.
Steven M. Ferguson,
Director, Division of Technology Development and Transfer, Office of Technology Transfer, National Institutes of Health.

[FR Doc. E5-7411 Filed 12-15-05; 8:45 am]

BILLING CODE 4140-01-P